DEPARTMENT OF TRANSPORTATION

Federal Aviation Administration

Agency Information Collection Activities: Requests for Comments; Clearance of Renewed Approval of Information Collection: Pilot Schools—FAR 141

AGENCY: Federal Aviation Administration (FAA), DOT.

ACTION: Notice and request for comments.

SUMMARY: In accordance with the Paperwork Reduction Act of 1995, FAA invites public comments about our intention to request the Office of Management and Budget (OMB) approval to renew an information collection. The collection involves the submission of FAA Form 8420-8, which is used as the base document to initiate and/or confirm the status of the schools' eligibility to hold an FAA Form 8000-4, Air Agency Certificate.

DATES: Written comments should be submitted by August 13, 2018.

ADDRESSES: Send comments to the FAA at the following address: Barbara Hall, Federal Aviation Administration, ASP-110, 10101 Hillwood Parkway, Fort Worth, TX 76177.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall by email at: Barbara.L.Hall@faa.gov; phone: 940-594-5913.

SUPPLEMENTARY INFORMATION: OMB Control Number: 2120-0009.

Title: Pilot Schools—FAR 141.

Form Numbers: 8420-8.

Type of Review: This is a renewal of an existing information collection.

Background: The FAA is publishing the final rule Regulatory Relief, Aviation Training devices; Pilot Certification, Training, and Pilot Schools; and Other Provisions (RIN 2120-AK28; Docket No. FAA-2016-6142). In that rule, the FAA is amending § 141.5(d) to allow part 141 pilot schools that hold training course approvals for special curricula courses to renew their certificates based on their students' successful completion of an end-of-course test for these FAA approved courses. In that rule, the FAA further adjusts the number of pilot schools based on population changes, and to account for the change in burden associated with these new courses.

We estimate that of the 31 new applications for pilot school certificates, 25% will have special curricula courses that will need to be accounted for in the passage rate required for issuance of a certificate in § 141.5(d). Of the 291 applications for renewal of pilot school certificates, approximately 25% would include special curricula courses that must now be accounted for in the passage rate for renewal of a certificate under § 141.5(d). We estimate that it would take .1 hours to add this special curricula course information to both initial and renewal applications.

8 new applications at .1 hours each = .8 hours.

73 applications at .1 hours each (adding special curr.) = 7.3 hours.

171.0 hours + 8.1 hours = 181.6 total burden hours.

The FAA is also making a burden adjustment to the number of pilot schools, increasing the population from 546 pilot schools to 581 pilot schools.

Respondents: 581 Pilot schools.

Frequency: As needed for new applications; Every 24 months for renewals of existing pilot schools.

Estimated Average Burden per Response: 0.5 hours, + 0.1 hours for special curriculum course information (when applicable).

Estimated Total Annual Burden: 31,639.6 total burden hours. 2,589.6 total annual reporting burden hours, and 29,050 total annual recordkeeping burden hours.

Issued in Washington, DC, on May 30, 2018.
Barbara L. Hall,
FAA Information Collection Clearance Officer, Performance, Policy, and Records Management Branch, ASP-110.

[FR Doc. 2018-12797 Filed 6-13-18; 8:45 am]

BILLING CODE 4910-13-P